DEPARTMENT OF HOUSING AND URBAN DEVELOPMENT

[Docket No. FR-4560-FA-12]

Announcement of Funding Awards for Fiscal Year 2000 Community Outreach Partnership Centers Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2000 Community Outreach Partnership Centers Program. The purpose of this document is to announce the names and addresses of the award winners and the amount of the awards which are to be used to establish and operate Community Outreach Partnership Centers that will: (1) Conduct competent and qualified research and investigation on theoretical or practical problems in large and small cities; and (2) facilitate partnerships and outreach activities between institutions of higher education, local communities, and local governments to address urban problems.

FOR FURTHER INFORMATION CONTACT: Jane Karadbil, Office of University Partnerships, U.S. Department of Housing and Urban Development, Room 8110, 451 Seventh Street, S.W., Washington, DC 20410, telephone (202) 708-1537, extension 5918. To provide service for persons who are hearing-or-speech-impaired, this number may be reached via TTY by Dialing the Federal Information Relay Service on 1-800-877-TTY, 1-800-877-8339, or 202-708-1455. (Telephone number, other than “800” TTY numbers are not toll free.)

SUPPLEMENTARY INFORMATION: The Community Outreach Partnership Centers Program was enacted in the Housing and Community Development Act of 1992 (Pub. L. 102-550, approved October 28, 1992) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Community Outreach Partnership Centers Program provides funds for: research activities which have practical application for solving specific problems in designated communities and neighborhoods; outreach, technical assistance and information exchange activities which are designed to address specific problems associated with housing, economic development, neighborhood revitalization, infrastructure, health care, job training, education, crime prevention, planning, and community organizing. On February 24, 2000 (65 FR 9405 ), HUD published a Notice of Funding Availability (NOFA) announcing the availability of $8 million in Fiscal Year 2000 funds for the Community Outreach Partnership Centers Program. The Department reviewed, evaluated and scored the applications received based on the criteria in the NOFA. As a result, HUD has funded 16 applications for New Grants and 8 applications for New Directions Grants . New Grants, which cannot exceed $400,000, are for institutions of higher education just beginning a COPC project. New Directions Grants, which cannot exceed $150,000, are for institutions of higher education that are undertaking new activities or expanding into new neighborhoods. These grants, with their grant amounts are identified below.

The Catalog Federal Domestic Assistance number for this program is 14.511.

In accordance with section 102(a)(4)(C) of the Department of Housing and Urban Development Reform Act of 1989 (Pub. L. 101-235, approved December 15, 1989), the Department is publishing details concerning the recipients of funding awards, as follows:

List of Awardees for Grant Assistance Under the FY 2000 Community Outreach Partnership Centers Funding Competition, by Name and Address

New England

1. Trinity College, Alta Lash, Trinity College, 300 Summit Street, Hartford, CT 06106. Grant: $149,984.

2. University of Rhode Island, Dr. Marcia Marker Feld, University of Rhode Island, 70 Lower College Road, Kingston, RI 02881. Grant: $150,000.

New York/New Jersey

3. Medgar Evers College, Dr. E. Thomas Oliver, Medgar Evers College, 1150 Carroll Street, Brooklyn, NY 11225. Grant: $399,663.

Mid-Atlantic

4. Danville Community College, Martha A. Walker, Danville Community College, 1008 South Main Street, Danville, VA 24541. Grant: $391,903.

5. Duquesne University, Dr. Evan Stoddard, Duquesne University, 600 Forbes Avenue, 403 Administration Building, Pittsburgh, PA 15282. Grant: $150,000.

6. Tidewater Community College, Mary Ruth Clowdsley, Tidewater Community College, 7000 College Drive, Portsmouth, VA 23703. Grant: $395,227.

7. University of Pennsylvania, Dr. Ira Harkavy, University of Pennsylvania, 133 South 36th Street, Mezzanine, Philadelphia, PA 19104. Grant: $150,000.

8. University of Pittsburgh, Tracy Soska, University of Pittsburgh, 350 Thackeray Hall, Pittsburgh, PA 15260. Grant: $399,702.

Southeast/Caribbean

9. Auburn University, Dr. Robert Montjoy, Auburn University, Auburn University, AL 36849. Grant: $382,267.

10. Barry University, Dr. Jacqueline Mondros, Barry University, 11300 Northeast 2nd Avenue, Miami Shores, FL 33161. Grant: $399,982.

11. University of Memphis, Dr. David Cox, University of Memphis, Memphis, TN 38152. Grant: $149,940.

Midwest

12. Ball State University, Eric Kelly, Ball State University, 2000 University Avenue, Muncie, IN 47306. Grant: $398,529.

13. DePaul University, Jerry Watson, DePaul University, 1 East Jackson Blvd., Chicago, IL 60604. Grant: $150,000.

14. Indiana University, Northwest, Dan Lowry, Indiana University, Northwest, P.O. Box 1847, Bloomington, IN 46402. Grant: $399,973.

15. Medical College of Wisconsin, Dr. Cheryl Maurana, Medical College of Wisconsin, 8701 Watertown Plank Road, Milwaukee, WI 53226. Grant: $398,037.

16. University of Wisconsin-Parkside, Dr. Anne Statham, University of Wisconsin-Parkside, 900 Wood Road, Box 2000, Kenosha, WI 53141. Grant: $150,000.

17. Western Michigan University, Sharon Anderson, Western Michigan University, Kalamazoo, MI 49008. Grant: $399,996.

18. Youngstown State University, Dr. Gil Peterson, Youngstown State University, One University Plaza, Youngstown, OH 44555. Grant: $399,952.

Southwest

19. Texas A&M University, Kermit Black, Texas A&M University, 3121 TAMU, College Station, TX 77843. Grant: $150,000.

Great Plains

20. University of Northern Iowa, Dr. R. Allen Hays, University of Northern Iowa, Cedar Falls, IA 50614. Grant: $382,063.

Rocky Mountains

21. University of Denver, Dr. David Lisman, University of Denver, 2199 S. University Blvd., Denver, CO 80208. Grant: $355,602.

Pacific/Hawaii

22. California State University, Hayward, Dr. Nan Maxwell, California State University, Hayward, 25976 Carlos Bee Blvd., Hayward, CA 94542. Grant: $400,000.

23. University of Southern California, Dr. Tridib Banerjee, University of Southern California, University Campus Park, Los Angeles, CA 90089. Grant: $400,000.

Northwest/Alaska

24. Seattle Central Community College, Dr. A. Barretto Ogilvie, Seattle Central Community College, 1701 Broadway, 2BE 4180J, Seattle, WA 98122. Grant: $372,775.

Dated: October 23, 2000.
Lawrence L. Thompson,
General Deputy Assistant Secretary for Policy Development and Research.

[FR Doc. 00-27979 Filed 10-31-00; 8:45 am]

BILLING CODE 4210-62-P